NATIONAL SCIENCE FOUNDATION

Advisory Committee for Geosciences; Notice of Meeting

In accordance with the Federal Advisory Committee Act (Pub. L. 92-463, as amended), the National Science Foundation announces the following meeting:

Name: Advisory Committee for Geosciences (1755).

Dates: November 12-14, 2003.

Time: 1:30-5:30 p.m., Wednesday, November 12, 2003; 8:30 a.m.-5:30 p.m., Thursday, November 13, 2003; 8:30 a.m.-2:30 p.m. Friday, November 14, 2003.

Place: National Science Foundation, 4200 Wilson Boulevard, Room 1235, Arlington, VA 22230.

Type of Meeting: Open.

FOR FURTHER INFORMATION CONTACT: Dr. Thomas Spence, Directorate for Geosciences, National Science Foundation, Suite 705, 4210 Wilson Boulevard, Arlington, Virginia 22230, Phone 703-292-8500.

Minutes: May be obtained from the contact person listed above.

Purpose of Meeting: To provide advice, recommendations, and oversight concerning support for research, education, and human resources development in the geosciences.

Agenda: Day 1: Cyberinfrastructure Subcommittee Meeting, Directorate activities and plans. Day 2: Division Subcommittee Meetings, Directorate initiatives. Day 3: Committee of Visitors report, Sensors and Sensor Networks, Intersessional activities.

Dated: October 9, 2003.
Susanne Bolton,
Committee Management Officer.

[FR Doc. 03-26095 Filed 10-15-03; 8:45 am]

BILLING CODE 7555-01-M